DEPARTMENT OF TRANSPORTATION

Federal Aviation Administration

[Summary Notice No.—2020-45]

Petition for Exemption; Summary of Petition Received; Airlines for America

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before June 15, 2020.

ADDRESSES: Send comments identified by docket number FAA-2020-0372 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Keira Jones, 202-267-6109, Office of Rulemaking, Federal Aviation Administration, 800 Independence Avenue SW, Washington, DC 20591.

This notice is published pursuant to 14 CFR 11.85.

Issued in Washington, DC, on June 4, 2020.
Brandon Roberts,
Acting Executive Director, Office of Rulemaking.

Petition for Exemption

Docket No.: FAA-2020-0372.

Petitioner: Airlines for America.

Section(s) of 14 CFR Affected: §§ 121.311(g), 121.333(f), 121.391(d), and 121.573(a).

Description of Relief Sought: The petitioner, Airlines for America, Inc. (A4A), on behalf of its member airlines petitions the Federal Aviation Administration (FAA) for an extension of Exemption No. 18522 (Docket No. FAA-2020-0372) until September 30, 2020. This exemption is scheduled to expire on June 30, 2020. The relief granted by Exemption 18522 has been in effect since April 08, 2020.

Exemption 18522 provides relief, under certain conditions and limitations, from 14 CFR 121.311(g), 121.333(f), 121.391(d), and 121.573(a) to the extent necessary to allow relief for flight attendants to relocate from the seats they would normally occupy in order to comply with recommendations from the World Health Organization (WHO) and Centers for Disease Control and Prevention (CDC) concerning proximity to other people. In addition, this relief from certain requirements of the regulation concerning passenger briefings excuses crewmembers from demonstrating the use of oxygen dispensing equipment and donning and inflating a life preserver.

[FR Doc. 2020-12507 Filed 6-9-20; 8:45 am]

BILLING CODE 4910-13-P